DEPARTMENT OF AGRICULTURE

Forest Service

Plumas National Forest, California, Roadside Noxious Weed EIS

AGENCY: Forest Service, USDA.

ACTION: Notice of intent to prepare an environmental impact statement.

SUMMARY: The Plumas National Forest, in cooperation with Butte, Plumas and Sierra Counties, will prepare an Environmental Impact Statement (EIS) to treat noxious weeds on National Forest system lands under an integrated weed management approach. Actions proposed through this project focus on eradication or control of invasive species along roads over the next 10 years. The potentially affected areas includes 706 known sites that cover 310 acres and additional roadside sites (within 100 feet of roads) within the next ten years not previously identified. Treatment acres for new infestations would not exceed a total of 2,000 acres over the 10-year period. The range of acres treated under the proposed action over the ten-year period would be 310 to 2,310. Up to five different control tactics would be prescribed for each infested area depending on phenology of a particular species, proximity to water and other sensitive resources, and size of infestation. Of the 310 acres of current infestations: 4 Acres are being proposed to be treated by mechanical/hand control tactics, 34.5 acres with herbicides, 191.5 acres with a combination of mechanical and herbicide tactics, and 80 acres with a combination of mechanical, biocontrol and herbicide tactics. A variety of noxious weeds would be treated, including but not limited to Canada Thistle, Medusa head, Yellow star thistle, Scotch broom, Hariy whitetop, Dyer's Woad, Perennial Pepperweed, French broom, Spanish broom, and Spotted Knapweed.

DATES: Although comments will be accepted throughout any phase of this project, comments concerning the scope of the analysis would be helpful if received within 30 days of the date of publication of this notice in the Federal Register. The draft EIS is expected on March 2007 and the final EIS is expected July 2007.

ADDRESSES: Send written comments to Forest Supervisor James M. Peña, Plumas National Forest, P.O. Box 11500, Quincy, CA 95971. Fax: (530) 283-7746. Comments may be: (1) Mailed to responsible official; (2) hand delivered between the hours of 8 a.m.-4:30 p.m. weekdays Pacific Time; (3) faxed; or (4) electronically mailed to: comments-pacificsouthwest-plumas@fs.fed.us. Comments submitted electronically must be in Rich Text Format (.rtf).

FOR FURTHER INFORMATION CONTACT: George Garcia, Project Coordinator, Supervisor's Office, Plumas National Forest (see address above).

SUPPLEMENTARY INFORMATION:

Purpose and Need for Action

The purpose of this project is to implement an integrated weed management approach along roadsides within the Plumas National Forest to meet the following desired conditions: (1) Contain, control and eradicate known weed infestations along roadsides to less than 10% of the total existing infested acres over the next 10 years; (2) contain, control and eradicate new weed infestation along roadsides over the next 10 years in order to have no net increase in roadside infestations over existing conditions.

The goal of this project is to eradicate or contain current roadside weed populations while still small. This integrated weed management approach would help the Plumas National Forest meet the following resource needs: (1) Protection of Threatened, Endangered, Sensitive and Management Indicator species habitats (plants and animals); (2) protection of cultural properties (i.e., native grasses); (3) reduction of hazardous fuels that are created by invasive species (i.e., Broom spp.); (4) maintaining native forage and habitat for plants, terrestrial wildlife and aquatic species.

Proposed Action

The Plumas National Forest, in cooperation with Butte, Plumas and Sierra Counties, proposes to treat noxious weeds on National Forest system lands under an integrated weed management approach. Actions proposed through this project focus on eradication or control of invasive species along roads over the next 10 years. The potentially affected area includes 706 known sites that cover 310 acres and additional roadside sites (within 100 feet of roads) within the next ten years not previously identified. Treatment of new infestations or occurrences would be prioritized considering funding, state and county rankings and potential for ecological impact and rate of spread. Treatment acres for new infestations would not exceed a total of 2,000 acres over the 10-year period. The range of acres treated under the proposed action over the ten-year period would be 310 to 2,310. Ongoing inventories would confirm locations of specific noxious weeds and effectiveness of past treatments. The intent of the Proposed Action is to treat the current infestations, 310 acres, before they proliferate and invade new acres. Up to five different control tactics would be prescribed for each infested area depending on phenology of a particular species, proximity to water and other sensitive resources, and size of infestation. Of the 310 acres of current infestations: 4 acres are being proposed to be treated by mechanical/hand control tactics, 34.5 acres with herbicides, 191.5 acres with a combination of mechanical and herbicide tactics, and 80 acres with a combination of mechanical, biocontrol and herbicide tactics. A variety of noxious weeds would be treated, including but not limited to Canada Thistle, Medusa head, Yellow star thistle, Scotch broom, Hairy whitetop, Dyer's Woad, Perennial Pepperweed, French broom, Spanish broom, and Spotted Knapweed.

Lead and Cooperating Agencies

The Plumas National Forest is the lead federal agency for this project. County Agriculture Departments in Butte, Plumas and Sierra counties will assist the Forest in implementation of this action once a decision has been made.

Responsible Official

Plumas National Forest, Forest Supervisor James M. Peña, is the Responsible Official for this EIS. James M. Peña, Forest Supervisor, P.O. Box 11500, Quincy, CA 95971.

Nature of Decision To Be Made

The Forest Supervisor will decide, based on the environmental analysis disclosed in this EIS, whether to implement the Proposed Action, another action alternative, or to implement the No Action Alternative in accordance with forest plan goals and desired future conditions. Indicator measures that will be considered in developing and evaluating the Proposed Action and Alternative include: (1) Effectiveness in treating noxious weed infestations, (2) potential adverse effects to human health and the environment, and (3) monetary costs and financial efficiency.

Scoping Process

The Plumas National Forest will be conducting public scoping on the proposed action. Public scoping will consist of a letter to the Forest's mailing list requesting public input and comments on the proposed action, and any relevant issues the public may have with regard to the integrated weed management approach outlined under the Roadside Noxious Weed proposal. No public meetings for this proposed action are currently scheduled.

Comment Requested

This notice of intent initiates the scoping process which guides the development of the environmental impact statement. Comments submitted to be specific to the proposed action and the treatments proposed.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of the draft environmental impact statement must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: August 3, 2006.
Terri Simon-Jackson,
Acting Forest Supervisor, Plumas National Forest.

[FR Doc. 06-6838 Filed 8-9-06; 8:45 am]

BILLING CODE 3410-11-M